DEPARTMENT OF HOUSING AND URBAN DEVELOPMENT

[Docket No. FR-7018-N-01]

60 Day Notice of Proposed Information Collection Comment Request: HUD Standardized Grant Application Forms

AGENCY: Office of Strategic Planning and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: April 29, 2019.

ADDRESSES: Interested persons are invited to submit comments regarding this proposal. Comments should refer to the proposal by name and/or OMB Control Number and should be sent to Colette Pollard, Reports Management Officer, QDAM, Department of Housing and Urban Development, 451 7th Street SW, Room 4176, Washington, DC 20410-5000; telephone 202-402-3400 (this is not a toll-free number) or email at Colette.Pollard@hud.gov for a copy of the proposed form. Persons with hearing or speech impairments may access this number through TTY by calling the toll-free Federal Relay Service at (800) 877-8339.

Electronic Submission of Comments. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the methods specified above. Again, all submissions must refer to the docket number and title of the notice.

FOR FURTHER INFORMATION CONTACT: Christopher Walsh, Grants Management and Oversight Division, Office of Strategic Planning and Management, Department of Housing and Urban Development, 451 Seventh St. SW, Room 3156, Washington, DC 20410 or by email Christopher.K.Walsh@hud.gov telephone 202-402-4353. This is not a toll-free number. Persons with hearing or speech impairments may access this number through TTY by calling the toll-free Federal Relay Service at (800) 877-8339.

Copies of the proposed data collection form may be requested from Ms. Pollard.

SUPPLEMENTARY INFORMATION: This notice informs the public that the Department is soliciting comments prior to submitting the proposed information collection to OMB for review, as required by the Paperwork Reduction Act of 1995 (44 U.S.C. Chapter 35, as amended). HUD is seeking approval from OMB for the information collection described in Section A.

A. Overview of Information Collection

Title of Proposal: HUD Standardized Grant Application Forms.

Type of Request: Extension of a currently approved collection.

OMB Control Number, if applicable: 2501-0017.

Additional OMB control numbers applicable to government wide standardized forms:

4040-0004 SF 424

4040-0007 SF 424-B

4040-0009 SF 424-D

SLLL—Grants.gov form

SFLLa Grants.gov form

2501-0032 Applicant/Recipient Disclosure/Update Report (HUD Form 2880)

Description of the need for the information and proposed use: Approval is sought for extension of HUD standardized forms which are used by various HUD competitive grant programs in the grant application process. The HUD Common Budget Form—(HUD-CB), the Common Budget Form Worksheet (HUD-CBW), and the HUD Matrix (HUD-M) are used to offer standardized grant application processes for several HUD programs. The policy of standardization is in accordance with the provisions of the Federal Financial Assistance Improvement Act of 1999 (Pub. L. 106-107, signed November 20, 1999). The HUD 424 Supplement, Survey on Ensuring Equal Opportunity for Applicants is completed by nonprofit organizations to provide HUD with an understanding of the population of applicants for Federal funds.

In addition, the collection references a number of standard forms from the government wide SF Family of Forms. These forms are used for all HUD applications. However, the burden associated with those forms is not reflected in this collection because that burden is reflected in Office of Management and Budget sponsored government-wide information collections.

In addition, HUD may combine into this collection OMB collection 2501-0032, HUD Form 2880 Applicant/Recipient Disclosure/Update Report which is being separately processed in advance of this publicaiton into this collection in order to consolidate public input on these forms.

Public notification of the renewal of these forms was made in December 20, 2017 as part of the Consolidated Competive Grant Paperwork Reduction Act Notice (FR-6005-N-01, 82 FR 60410, published December 20, 2017).

Members of affected public: Applicants for HUD competitively funded assistance.

Estimation of the total numbers of hours needed to prepare the information collection including number of respondents, frequency of response, and hours of response: The forms are used by entities when they apply for grants. As HUD receives roughly 14,000 applications on an annual basis, we expect that there will be 14,000 respondents who may be completing these forms. HUD estimates that the hourly rate of individuals completing the form, at $60.74 per hour.¹ The total estimated burden on respondents would thus reach $2,648,264.00 on an annual basis. This is shown in the following table.

¹ Estimated cost for respondents is calculated from the June 2018 Department of Labor Bureau of Labor Statistics report on Employer Costs for Employee Compensation determined that the hourly rate of management, professional and related wages and salaries averaged $41.71 per hour plus $19.03 per hour for fringe benefits for a total $60.74 per hour.

Form | Number of respondents | Frequency | Hours per respondent | Total hours | Cost per hour | Total cost
SF424 | 14,000 |  |  |  |  |
SF424B | 14,000 |  |  |  |  |
SF424D | 2000 |  |  |  |  |
SFLLL | 14,000 |  |  |  |  |
SFLLLa | 12,000 |  |  |  |  |
HUD424CB | 1,100 | 1 | 3 | 3,300 | 60.74 | $200,442.00
HUD424CBW | 1,100 | 1 | 3 | 3,300 | 60.74 | 200,442.00
HUD424M | 200 | 1 | 5 | 1,000 | 60.74 | 60,740.00
HUD424SUP | 4,000 | 1 | 2 | 8,000 | 60.74 | 485,920.00
HUD2880 | 14,000 | 1 | 2 | 28,000 | 60.74 | 1,700,720.00
Total | 14,000 |  |  |  |  | 2,648,264.00

Estimation of the Cost to the Federal Government: The following table shows the estimated burden of Federal financial assistance review. HUD estimates the cost of the maximum burden on HUD staff would total at most $5,011,267. This estimate assumes that each form would be reviewed for one hour by a GS 13 step 5 performing a review, and then by a GS 14 and a GS 15 who will look at summary results on an annual basis.²

² Federal staff time is estimated for a GS-13 step 5 hourly rate at $52.66 per hour (from the Office of Personnel Management and the table with Washington-Baltimore-Arlington locality pay), plus 16% fringe benefit for a total of $61.08 per hour, as well as 15 minutes each for a GS 14 and a GS 15 based on similar calculations bringing the blended total to $100.91/hr.

Estimated respondents | Frequency | Estimated number of responses | Estimated burden hours per review | Estimated burden hours per year | Cost per hour | Total estimated burden 2
14,000 | 1 | 76,400 | 1 | 76,400 | $61.08 | $21,191,100
14,000 | 1 | 76,400 | .15 | 19,100 | 72.20 | 344,755
|  |  |  |  |  | 5,011,267

B. Solicitation of Public Comment

This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

C. Authority

The Paperwork Reduction Act of 1995, 44 U.S.C. Chapter 35, as amended.

Dated: February 11, 2019.
Angie R. Scott,
Acting Director, Office of Strategic Planning and Management.

[FR Doc. 2019-03417 Filed 2-26-19; 8:45 am]

BILLING CODE 4210-67-P